DEPARTMENT OF THE INTERIOR

Bureau of Land Management

[MT-924-5410-FR-E035; MTM 93499]

Application for Conveyance of Mineral Interest; Montana

AGENCY: Bureau of Land Management, Interior.

ACTION: Notice.

SUMMARY: Notice is given that, pursuant to section 209b of the Federal Land Policy and Management Act of 1976 (43 U.S.C. 1719(b)), Mr. Tim Weikert has applied to purchase the mineral estate described as follows:

Principal Meridian, Montana

T. 7 S., R. 3 W.,

Sec. 19, W½NE¼NE¼.

Containing 20.00 acres, more or less.

The mineral interest will be conveyed in whole or in part upon favorable mineral examination.

The purpose is to allow consolidation of surface and subsurface mineral ownership where there are no known mineral values or in those instances where the United States mineral reservation interferes with or precludes appropriate non-mineral development and such development is a more beneficial use of the land than the mineral development.

FOR FURTHER INFORMATION CONTACT: Tami Lorenz, Legal Instruments Examiner, BLM Montana State Office, P.O. Box 36800, Billings, Montana 59107-6800, 406-896-5053.

SUPPLEMENTARY INFORMATION: Upon publication of this notice in the Federal Register as provided in 43 CFR 2720.1-1(b), the mineral interests within the legal description given above will be segregated to the extent that they will not be subject to appropriation under the mining and mineral leasing laws. The segregative effect of the application shall terminate upon issuance of a conveyance document, final rejection of the application, or 2 years from the date of filing of the application May 21, 2004, whichever occurs first.

Dated: February 2, 2005.
Howard A. Lemm,
Deputy State Director, Division of Resources.

[FR Doc. 05-3522 Filed 2-23-05; 8:45 am]

BILLING CODE 4310-$$-P